INTERNATIONAL TRADE COMMISSION

[Investigation No. 701-TA-680 (Final)]

Sodium Nitrite From Russia

Determination

On the basis of the record ¹ developed in the subject investigation, the United States International Trade Commission (“Commission”) determines, pursuant to the Tariff Act of 1930 (“the Act”), that an industry in the United States is materially injured by reason of imports of sodium nitrite from Russia provided for in subheading 2834.10.10 of the Harmonized Tariff Schedule of the United States, that have been found by the U.S. Department of Commerce (“Commerce”) to be subsidized by the government of Russia.²

¹ The record is defined in § 207.2(f) of the Commission's Rules of Practice and Procedure (19 CFR 207.2(f)).

² 87 FR 38375 (June 28, 2022).

Background

The Commission instituted this investigation effective January 13, 2022, following receipt of a petition filed with the Commission and Commerce by Chemtrade Chemicals US LLC, Parsippany, New Jersey. The Commission scheduled the final phase of the investigation following notification of a preliminary determination by Commerce that imports of sodium nitrite from Russia were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of April 20, 2022 (87 FR 23567). The Commission conducted its hearing on June 21, 2022. All persons who requested the opportunity were permitted to participate.

The Commission made this determination pursuant to § 705(b) of the Act (19 U.S.C. 1671d(b)). It completed and filed its determination in this investigation on August 15, 2022. The views of the Commission are contained in USITC Publication 5342 (August 2022), entitled Sodium Nitrite from Russia: Investigation No. 701-TA-680 (Final).

By order of Commission.
Issued: August 15, 2022.
William Bishop,
Supervisory Hearings and Information Officer.

[FR Doc. 2022-17814 Filed 8-18-22; 8:45 am]

BILLING CODE 7020-02-P